FEDERAL COMMUNICATIONS COMMISSION

47 CFR Part 73

[DA 02-1914, MB Docket No. 02-93, RM-10414]

Digital Television Broadcast Service; Sacramento, CA

AGENCY: Federal Communications Commission.

ACTION: Final rule.

SUMMARY: The Commission, at the request of La Dov Educational Outreach, Inc., an applicant for a new television station to operate on NTSC channel *52, substitutes DTV channel *43 for NTSC channel *52 at Sacramento. See 67 FR 34669, May 15, 2002. DTV channel *43 can be allotted to Sacramento in compliance with the principal community coverage requirements of section 73.625(a) at reference coordinates 38-37-49 N. and 120-51-20 W. with a power of 100, HAAT of 304 meters and with a DTV service population of 1557 thousand. With this action, this proceeding is terminated.

DATES: Effective September 23, 2002.

FOR FURTHER INFORMATION CONTACT: Pam Blumenthal, Media Bureau, (202) 418-1600.

SUPPLEMENTARY INFORMATION: This is a synopsis of the Commission's Report and Order, MB Docket No. 02-93, adopted August 8, 2002, and released August 9, 2002. The full text of this document is available for public inspection and copying during regular business hours in the FCC Reference Information Center, Portals II, 445 12th Street, SW., Room CY-A257, Washington, DC. This document may also be purchased from the Commission's duplicating contractor, Qualex International, Portals II, 445 12th Street, SW, CY-B402, Washington, DC, 20554, telephone 202-863-2893, facsimile 202-863-2898, or via e-mail qualexint@aol.com.

List of Subjects in 47 CFR Part 73

Digital television broadcasting, Television.

Part 73 of Title 47 of the Code of Federal Regulations is amended as follows:

PART 73—[AMENDED]

1. The authority citation for part 73 continues to read as follows:

Authority: 47 U.S.C. 154, 303, 334 and 336.

§ 73.606 [Amended]

2. Section 73.606(b), the Table of Television Allotments under California, is amended by removing TV channel *52 at Sacramento.

§ 73.622 [Amended]

3. Section 73.622(b), the Table of Digital Television Allotments under California, is amended by adding DTV channel *43 at Sacramento.

Federal Communications Commission.
Barbara A. Kreisman,
Chief, Video Division, Media Bureau.

[FR Doc. 02-20599 Filed 8-13-02; 8:45 am]

BILLING CODE 6712-01-P